DEPARTMENT OF LABOR

Office of the Secretary

Agency Information Collection Activities; Submission for OMB Review; Comment Request; Workforce Investment Act Adult and Dislocated Worker Programs Gold Standard Evaluation Follow-Up Surveys, Veterans Study, and Cost Data

ACTION: Notice.

SUMMARY: The Department of Labor (DOL) is submitting the Employment and Training Administration (ETA) sponsored information collection request (ICR) proposal titled, “Workforce Investment Act Adult and Dislocated Worker Programs Gold Standard Evaluation Follow-Up Surveys, Veterans Study, and Cost Data,” to the Office of Management and Budget (OMB) for review and approval for use in accordance with the Paperwork Reduction Act (PRA) of 1995 (44 U.S.C. 3501 et seq.).

DATES: Submit comments on or before November 13, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, 725 17th Street NW., Washington, DC 20503, Fax: 202-395-6881 (this is not a toll-free number), email: OIRA_submission@omb.eop.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: This ICR covers two follow-up surveys conducted 15 and 30 months after randomly assigning a sample of approximately 6,000 Workforce Investment Act (WIA) customers included in the WIA Evaluation into control or treatment groups; cost data collected on three forms—a program costs questionnaire, a staff activity log, and a resource room sign-in sheet—for use in estimating the costs of WIA services received by sample members for the benefit-cost analysis; and collection of veterans data—consisting of qualitative data on veterans served at the 28 Local Workforce Investment Areas (LWIAs) participating in the WIA Evaluation. For the Veterans Supplemental Study (VSS) qualitative analysis, additional questions and several activities will be added to the WIA Evaluation's second round of site visits to the 28 LWIAs. A separate quantitative analysis will use two sets of administrative data that States already report to the DOL-WIA Standardized Record Data and Wagner-Peyser data. Because the data are already reported to the DOL, there is no additional burden associated with this quantitative data collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on June 25, 2012 (77 FR 37923).

Interested parties are encouraged to send comments to the OMB, Office of Information and Regulatory Affairs at the address shown in the ADDRESSES section within 30 days of publication of this notice in the Federal Register. In order to help ensure appropriate consideration, comments should mention OMB ICR Reference Number 201208-1205-012. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Workforce Investment Act Adult and Dislocated Worker Programs Gold Standard Evaluation Follow-Up Surveys, Veterans Study, and Cost Data.

OMB ICR Reference Number: 201208-1205-012.

Affected Public: Individuals or Households and State, Local and Tribal Governments.

Total Estimated Number of Respondents: 12,488.

Total Estimated Number of Responses: 13,159.

Total Estimated Annual Burden Hours: 2,581.

Total Estimated Annual Other Costs Burden: $0.

Dated: October 2, 2012.
Michel Smyth,
Departmental Clearance Officer.

[FR Doc. 2012-25006 Filed 10-10-12; 8:45 am]

BILLING CODE 4510-FN-P